DEPARTMENT OF COMMERCE

National Institute of Standards and Technology

[Docket Number: 190312229-9229-01]

Artificial Intelligence Standards

AGENCY: National Institute of Standards and Technology, U.S. Department of Commerce.

ACTION: Notice; extension of comment period.

SUMMARY: The National Institute of Standards and Technology (NIST) extends the period for submitting written comments on the request for information (RFI) entitled “Artificial Intelligence Standards,” published on May 1, 2019. The public comment period was originally scheduled to close on May 31, 2019; the public comment period is extended to now close on June 10, 2019. NIST is taking this action to provide additional time to submit comments in response to multiple requests from interested parties to extend the original deadline.

DATES: Comments must be received on or before June 10, 2019 at 5:00 p.m. Eastern Time.

ADDRESSES: Written comments in response to this RFI may be submitted by mail to AI-Standards, National Institute of Standards and Technology, 100 Bureau Drive, Stop 2000, Gaithersburg, MD 20899. Online submissions in electronic form may be sent to ai_standards@nist.gov. Submissions may be in any of the following formats: HTML, ASCII, Word, RTF, or PDF. Please cite “RFI: Developing a Federal AI Standards Engagement Plan” in all correspondence. All relevant comments received by the deadline will be posted at https://www.nist.gov/topics/artificial-intelligence/ai-standards and regulations.gov without change or redaction, so commenters should not include information they do not wish to be posted (e.g., personal or confidential business information). Comments that contain profanity, vulgarity, threats, or other inappropriate language or content will not be posted or considered.

FOR FURTHER INFORMATION CONTACT: For questions about this RFI contact: Elham Tabassi, NIST, MS 8900, 100 Bureau Drive, Gaithersburg, MD 20899, telephone (301) 975-5292, email elham.tabassi@nist.gov. Please direct media inquiries to NIST's Public Affairs Office at (301) 975-NIST.

SUPPLEMENTARY INFORMATION: On May 1, 2019, NIST published a notice and RFI in the Federal Register (84 FR 18490), about Artificial Intelligence Standards. The notice requested public comments on or before May 31, 2019. Multiple interested parties have requested an extension of the original deadline. In light of these requests, NIST extends the period for submitting public comments to June 10, 2019. Previously submitted comments do not need to be resubmitted.

Kevin A. Kimball,
Chief of Staff.

[FR Doc. 2019-11550 Filed 6-3-19; 8:45 am]

BILLING CODE 3510-13-P